DEPARTMENT OF TRANSPORTATION

Federal Transit Administration

[Docket No: FTA-2007-28960]

National Transit Database: Amendments to Urbanized Area Annual Reporting Manual

AGENCY: Federal Transit Administration (FTA), DOT.

ACTION: Notice of Final Amendments to the 2007 National Transit Database Urbanized Area Annual Reporting Manual.

SUMMARY: This notice provides final notice of changes to the Federal Transit Administration's (FTA) 2007 National Transit Database (NTD) Urbanized Area Annual Reporting Manual (Annual Manual). Pursuant to 49 U.S.C. 5335, FTA requires recipients of FTA Urbanized Area Formula Grants to provide an annual report to the Secretary of Transportation via the NTD reporting system according to a uniform system of accounts (USOA). In an ongoing effort to improve the NTD reporting system and be responsive to the needs of NTD data users and of the transit agencies reporting to the NTD, FTA annually refines and clarifies the reporting requirements through revisions to the Annual Manual. On September 5, 2007, FTA published a notice in the Federal Register (72 FR 17564) inviting comments on proposed amendments to the 2007 Annual Manual. This notice provides responses to those comments and announces the availability of the final 2007 Annual Manual.

DATES: Effective Date: November 9, 2007.

FOR FURTHER INFORMATION CONTACT: For program issues, John D. Giorgis, Office of Budget and Policy, (202) 366-5430 (telephone); (202) 366-7989 (fax); or john.giorgis@dot.gov (e-mail). For legal issues, Richard Wong, Office of the Chief Counsel, (202) 366-0675 (telephone); (202) 366-3809 (fax); or richard.wong@dot.gov (e-mail).

SUPPLEMENTARY INFORMATION:

I. Background

The National Transit Database (NTD) is the Federal Transit Administration's (FTA's) primary database for statistics on the transit industry. Recipients of FTA's Urbanized Area Formula Program (Section 5307) and Other Than Urbanized Area Formula Program (Section 5311) are required by statute to submit data to the NTD. These data are used to “help meet the needs of * * * the public for information on which to base public transportation service planning * * *” (49 U.S.C 5335).

Currently, over 650 transit agencies in urbanized areas report to the NTD through an Internet-based reporting system. Each year, performance data from these submissions are used to apportion over $4 billion of FTA funds under the Urbanized Area Formula Grants Program. These data are also used in the annual National Transit Summaries and Trends report, the biennial Conditions and Performance Report to Congress, and in meeting FTA's obligations under the Government Performance Results Act of 1993.

In an ongoing effort to improve the NTD Internet reporting system and to be responsive to both the needs of NTD data users and the needs of transit agencies reporting to the NTD, FTA annually refines and clarifies reporting requirements to the NTD, as contained in the Annual NTD Module Reporting Manual. This notice announces the availability of the final 2007 Annual Manual.

II. Comments and FTA Response to Comments

On September 5, 2007, FTA published a notice in the Federal Register (72 FR 17564) inviting comments on proposed amendments to the 2007 Annual Manual. In this announcement, FTA proposed seven changes:

(1) To require buyers of purchased transportation service from private providers to include the service in their own NTD report, and to no longer permit private providers of purchased transportation service to report separately to the NTD on behalf of the public provider of transit services;

(2) To require that when one public transit provider purchases transportation services from another public transit agency, that either the buyer or the seller may report the service, but that the service must be reported as being “directly operated;”

(3) To require rail transit agencies to report Average Weekday Unlinked Passenger Trips and Actual Passenger Car Revenue Miles by four time categories: Weekday AM Peak, Weekday Midday, Weekday PM Peak and Weekday Other;

(4) To require those few transit agencies that service one urbanized area over 200,000 in population (large urbanized area) and two or more urbanized areas under 200,000 in population (small urbanized areas) to separately allocate their operations, operational expense, and fixed guideway data among each of the urbanized areas under 200,000 in population that they serve on the federal funding allocation form;

(5) To require transit agencies to separate funds, which were previously reported as “Other FTA Funds,” into different categories for each FTA program in their NTD report;

(6) To create a standard form for submitting the Chief Executive Officer's (CEO) certification; and

(7) To require all transit agencies, beginning with the 2008 report year, to conduct a statistical sample of average trip lengths (used for calculating passenger miles traveled) every three years, unless they are a large transit agency that is already required to sample every year.

FTA received eight comments on the proposed amendments to the 2007 Annual Manual. Four comments were received regarding the proposed peak rail data collection, two comments were received on the proposed sampling requirements for small urbanized area transit agencies, and one comment each was received on the proposed changes to the allocation of funding form, the collection of funding data by specific FTA programs, and the standard form for filing CEO certifications. No comments were received on either of the two proposed changes regarding the reporting of purchased transportation services. Additionally, FTA received comments on two issues that were not addressed in the Federal Register Notice. Specifically, these comments concerned the 2007 reporting deadlines, and the circular providing guidance for the sampling of unlinked passenger trip and passenger mile traveled data in vanpool operations. FTA hereby responds to these comments in the following order: (a) Rail Peak Service Data; (b) Sampling Requirements for Small Urbanized Area Transit Agencies; (c) Allocation of Funding; (d) Collection of Funding Data by Specific FTA Programs; (e) the CEO Certification Standard Form; (f) the 2007 Reporting Deadlines; and (g) Vanpool Sampling Requirements.

(a) Rail Peak Service Data

FTA received four comments on its proposal to collect peak service data for rail transit systems. Two comments asked that this requirement be made optional for the 2007 and 2008 report years, as 2007 and 2008 data have already been collected without regard to peak data. One of these comments also suggested that FTA institute a size threshold to require peak data only from large rail transit agencies, and asked if the peak service data requirement would apply to atypical rail modes, such as inclined plane. One comment expressed concern about the burden this requirement would impose on small transit agencies that operate only motorbus and demand response service.

FTA Responds: FTA adopts the commenters' suggestion to make this reporting requirement voluntary for the 2007 and 2008 report years. Therefore, FTA will grant a reporting waiver for the peak rail service data requirement to any transit agency that requests one for the 2007 or 2008 report years. FTA also agrees not to apply the peak rail service data requirement to atypical rail systems. The peak rail service data collection will only apply to heavy rail, light rail, or commuter rail systems. FTA will consider implementing a size threshold, likely to be a threshold to exempt rail systems with 9 or fewer vehicles, for the 2008 Report Year. FTA will invite further comments on such a size threshold as part of a future announcement in the Federal Register regarding proposed amendments to the 2008 Annual Reporting Manual for urbanized area transit agencies. For the 2007 and 2008 Report Years, any small rail systems will be able to get an automatic reporting waiver from the peak rail service requirements. FTA reminds the commenters that this proposal concerns only rail systems, and that this proposal does not apply to small transit agencies operating only motorbus and demand response services.

One comment was received from a commuter rail transit agency that indicated that it collected tickets by hand on-board the trains, and so could not easily collect and report unlinked passenger trip data by time of day. Two comments suggested that some transit agencies could comply with FTA's proposal only by applying estimation factors to their actual total ridership counts. One comment asked if FTA would define a consistent peak service period across all rail agencies, or if each rail agency could define its own peak period.

FTA Responds: FTA has updated the final 2007 Annual Manual to reflect the following guidance: Each rail transit agency may define its own peak period, based upon those times of a day at which it operates trains on shorter headways, relative to the rest of the day. Further, a rail transit agency may define an entire run of a train as being either “peak” or “off-peak.” As such, it would not be necessary for a rail transit agency to determine which persons boarded an individual train. Instead, peak service data could be provided based on the entire data for a given run of a train. Only if a rail transit agency is unable to collect even this data, a reasonable allocation factor may be used.

(b) Sampling Requirements for Small Urban Transit Agencies

FTA received two comments on its proposal to require all transit agencies that are not required to sample every year to do so every third year. Previously, some transit agencies in small urbanized areas were only required to sample every fifth year. One small transit agency and one State public transportation association urged FTA to reconsider this proposal, arguing that the proposal would be too burdensome on small transit agencies.

FTA Responds: FTA declines to adopt the commenters' suggestion to reinstitute a five year passenger mile sampling cycle for transit agencies in small urbanized areas. The previous requirements, with separate five year and three year sampling cycles for certain reporters, caused a great deal of confusion to reporters, and some transit agencies ended up sampling in the wrong year. Simplified requirements will ultimately benefit all transit agencies. Furthermore, the five-year sampling cycle was previously instituted at a time when transit performance data were not used for the apportionment of Urbanized Area Formula Grants (Section 5307 Grants) to small urbanized areas. With the passage of the Safe, Accountable, Flexible, Efficient Transportation Equity Act: A Legacy for Users (SAFETEA-LU) in 2005, however, transit performance data are now used in the apportionment of Section 5307 funds through the Small Transit-Intensive Cities (STIC) Grant Program. As such, there is a greater need for high-quality passenger mile data in small urbanized areas, as passenger mile data for a transit agency in a small urbanized area impacts the Federal funding for transit not just in its own urbanized area, but in all other small urbanized areas, through the STIC apportionment formula. In order to reduce reporting burden, FTA currently only requires transit agencies to sample passenger miles so as to achieve 95% confidence with 10% precision. With a five-year sampling cycle, however, routine sampling errors can negatively impact STIC apportionments for five years until a new sample is conducted. A three-year sampling cycle will provide additional data to improve the overall quality of the passenger mile data used in the apportionment of Federal funds. FTA recognizes that sampling for passenger miles may be burdensome on transit agencies, particularly small ones. As such, FTA is undertaking an effort to revise its sampling guidelines, so as to reduce some of the reporting burden. FTA notes that the new sampling requirements will not impact transit agencies until the 2011 report year, as transit agencies on both the five-year and the three-year cycle were already required to sample for the 2008 report year under the old cycles.

(c) Rail Peak Service Data

One comment requested further direction on FTA's proposal to expand its Federal Funding Allocation form to require transit agencies servicing one large urbanized area and two or more small urbanized areas to allocate their service data across the various small urbanized areas. (For NTD purposes, a large urbanized area is one with 200,000 or more in population, and a small urbanized area is one with less than 200,000 in population.) Previously, FTA's Federal Funding Allocation form only accounted for transit agencies serving one small urbanized area, not two or more. This comment expressed concern about the burden of conducting this allocation for the commenter's own agency.

FTA Responds: FTA notes that the above comment came from a transit agency that serves two large urbanized areas, and only one small urbanized area. As such, the revised guidance does not apply to this transit agency. FTA notes that transit agencies should allocate data across various small urbanized areas in the same way in which many transit agencies already allocate data across various large urbanized areas. Additionally, FTA will provide guidance on this allocation through the 2007 Annual Manual, through NTD training sessions, and through technical assistance available from NTD validation analysts.

(d) Collection of Funding Data by Specific FTA Programs

FTA received one comment in support of its proposal to collect funding data separately for each FTA Program, rather than through a catchall category for “Other FTA Funds.”

FTA Responds: FTA thanks the commenter.

(e) CEO Certification Standard Form

FTA received one comment on its proposal to create a standard CEO Certification Form. This commenter was concerned that the standard CEO Certification Form would not be able to accommodate its practice of filing its NTD report before receiving the final report from its auditor.

FTA Responds: FTA notes that its proposed CEO Certification Form includes options 3a and 3b, each of which provides for a transit agency to file its NTD report before receiving the final report from its auditor.

(f) 2007 Reporting Deadlines

FTA received one comment that the ordinary reporting deadlines for transit agencies with 2007 fiscal years ending on or before June 30, 2007, would not be attainable, given that the 2007 Annual Reporting Manual was pending public notice-and-comment.

FTA Responds: FTA agrees with this comment, and establishes the following 2007 NTD Reporting Deadlines for transit agencies with 2007 fiscal years ending on or before June 30, 2007:

Report Due Date: November 30, 2007.

Waiver Request Deadline: November 30, 2007.

Last Date to Receive Report Revisions: May 1, 2008.

Report Closeout: May 15, 2008.

FTA does not change the deadlines for transit agencies with 2007 fiscal years ending after June 30, 2007. FTA further reminds transit agencies that pursuant to 49 CFR 630.6 NTD reporters may request a 30-day extension for submitting their reports.

(g) 2007 Reporting Deadlines

FTA received one comment proposing revised guidance for sampling passenger miles for vanpool service, which are currently covered by the Circular UMTA C 2710.21, issued in 1988.

FTA Responds: The original Federal Register Notice announcing proposed amendments to the 2007 Annual Manual did not mention vanpool sampling guidelines or Circular UMTA C 2710.21. As noted above, FTA is currently considering revising its sampling guidance, and will take this comment under advisement in developing any such guidance. FTA will invite public guidance on revised guidance, once it has been developed.

The final 2007 Reporting Manual, as amended, may be found on the Internet at http://www.ntdprogram.gov.

Issued in Washington, DC, this 6th day of November 2007.
James S. Simpson,
Administrator.

[FR Doc. E7-22063 Filed 11-8-07; 8:45 am]

BILLING CODE 4910-57-P